Title 3—

The President

Proclamation 8283 of August 27, 2008

National Alcohol And Drug Addiction Recovery Month, 2008

By the President of the United States of America

A Proclamation

Substance abuse is an unrelenting evil that destroys lives, ruins families, and endangers neighborhoods. During National Alcohol and Drug Addiction Recovery Month, we emphasize our commitment to alcohol and drug addiction prevention. This month is also an opportunity to recognize those who have had the courage to combat and overcome addiction.

Alcohol and drug abuse require an aggressive response. My Administration will continue to help educate our children through the National Youth Anti-Drug Media Campaign. This Campaign urges parents and adults to safeguard our young people from the abuse of prescription drugs, focuses on random drug-testing in schools and in the workplace, and creates drug-free community coalitions. First Lady Laura Bush leads the Helping America's Youth initiative, which assists our youth in making healthy life choices through the participation of caring adults in their lives. The dedicated efforts of families, teachers, law enforcement, faith-based groups, and community activists are all important.

We are also working to reduce the supply of illegal drugs coming into our country and fighting demand here at home. In order to disrupt the market for illegal drugs, the National Drug Control Strategy report has coordinated law enforcement efforts throughout our Nation to help dismantle channels of distribution, and we are also working with foreign governments to eradicate the trafficking of illegal drugs.

Too many of our citizens have been swept up in a cycle of addiction. Through faith-based and community groups, we have revolutionized the way we help people break the chains of addiction. The Access to Recovery program provides addicts with vouchers so that they can attend the treatment center of their choice. Our Nation's armies of compassion have helped nearly 200,000 clients rediscover their dignity and purpose through this program.

During National Alcohol and Drug Addiction Recovery Month and throughout the year, we underscore the worthy mission of confronting substance abuse. This year's theme, “Join the Voices of Recovery: Real People, Real Recovery,” highlights the importance of providing hope and love to those who are trying to overcome drug and alcohol addiction and rebuild their lives. For more information on how to help fellow citizens and continue building a stronger community, visit recoverymonth.gov.

NOW, THEREFORE, I, GEORGE W. BUSH, President of the United States of America, by virtue of the authority vested in me by the Constitution and laws of the United States, do hereby proclaim September 2008 as National Alcohol and Drug Addiction Recovery Month. I call upon the people of the United States to observe this month with the appropriate programs, ceremonies, and activities.

IN WITNESS WHEREOF, I have hereunto set my hand this twenty-seventh day of August, in the year of our Lord two thousand eight, and of the Independence of the United States of America the two hundred and thirty-third.

[FR Doc. E8-20303

Filed 8-28-08; 8:45 am]

Billing code 3195-01-P